DEPARTMENT OF LABOR

Labor Advisory Committee for Trade; Negotiations and Trade Policy

Meeting Notice

Pursuant to the provisions of the Federal Advisory Committee Act (Pub. L. 92-463 as amended), notice is hereby given of the meeting of the Labor Advisory Committee for Trade Negotiations and Trade Policy.

Date, time and place: October 8, 2002, 10 a.m. to 12 noon, C-5310 1A&B, Department of Labor Building, 200 Constitution Ave., NW., Washington, DC 20210.

Purpose: To discuss trade negotiations and trade policy of the United States.

This meeting will be closed under the authority of section 10(d) of the Federal Advisory Committee Act and 5 U.S.C. section 552(c)(1). The Committee will hear and discuss sensitive and confidential matters concerning U.S. trade negotiations and trade policy.

FOR FURTHER INFORMATION CONTACT: Jorge Perez-Lopez, Director, Trade Advisory Group, Phone: (202) 693-4874.

Signed at Washington, DC this 5th day of September 2002.
Thomas Moorhead,
Deputy Under Secretary, International Affairs.

[FR Doc. 02-23395 Filed 9-12-02; 8:45 am]

BILLING CODE 4510-28-M